DEPARTMENT OF TRANSPORTATION

Surface Transportation Board

[Docket No. AB 1074X]

Lassen Valley Railway, LLC—Abandonment Exemption—in Washoe County, NV and Lassen County, CA

On April 20, 2011, Lassen Valley Railway, LLC (LVR) filed with the Surface Transportation Board (Board) a petition under 49 U.S.C. 10502 for exemption from the provisions of 49 U.S.C. 10903 to abandon a 21.77-mile line of railroad located between milepost 338.33 near Flanigan, Washoe County, Nev. and milepost 360.10 near Wendel,¹ Lassen County, Cal. (the line).² The line traverses United States Postal Service Zip Codes 89405, 96113, 96130, and 96136.

¹ By letter filed May 4, 2011, the milepost near Wendel was corrected. The petition originally identified milepost 359.25 as the end of the line instead of milepost 360.10. The letter also clarified 96136 as a correct zip code.

² According to LVR, the line was the subject of a prior abandonment petition in Union Pacific Railroad—Abandonment Exemption—in Lassen County, Cal., and Washoe County, Nev., AB 33 (Sub-No. 230X) (STB served Jan. 26, 2007). The description of the rail line in that proceeding also referenced a .57-mile line in Lassen County, from milepost 358.68 to milepost 359.25 near Wendel, which appears to be included within the mileposts described in the line. LVR states that abandonment of the line was not consummated and LVR acquired the line pursuant to a notice of exemption in Lassen Valley Railway—Acquisition & Operation Exemption—Union Pacific Railroad, FD 35306 (STB served Dec. 3, 2009).

LVR has been advised that segments of the line may contain Federally granted rights-of-way. Any documentation in LVR's possession will be made available promptly to those requesting it.

The interest of railroad employees will be protected by the conditions set forth in Oregon Short Line Railroad—Abandonment Portion Goshen Branch Between Firth & Ammon, In Bingham & Bonneville Counties, Idaho, 360 I.C.C. 91 (1979).

By issuance of this notice, the Board is instituting an exemption proceeding pursuant to 49 U.S.C. 10502(b). A final decision will be issued by August 8, 2011.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than May 31, 2011. Each trail request must be accompanied by a $250 filing fee. See 49 CFR 1002.2(f)(27).

All filings in response to this notice must refer to Docket No. AB 1074X, and must be sent to: (1) Surface Transportation Board, 395 E Street, SW, Washington, DC 20423-0001; and (2) Fritz R. Kahn, 1920 N. Street, NW. (8th floor), Washington, DC 20036. Replies to the petition are due on or before May 31, 2011.

Persons seeking further information concerning abandonment procedures may contact the Board's Office of Public Assistance, Governmental Affairs and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at “WWW.STB.DOT.GOV.”

Decided: May 4, 2011.
By the Board, Rachel D. Campbell, Director, Office of Proceedings.
Jeffrey Herzig,
Clearance Clerk.

[FR Doc. 2011-11336 Filed 5-9-11; 8:45 am]

BILLING CODE 4915-01-P